DEPARTMENT OF COMMERCE

International Trade Administration

[A-570-897]

Postponement of Preliminary Determination of Antidumping Duty Investigation: Certain Circular Welded Carbon Quality Line Pipe From the People's Republic of China

AGENCY: Import Administration, International Trade Administration, Department of Commerce.

SUMMARY: The Department of Commerce (“the Department”) is postponing the preliminary determination in the antidumping duty investigations of certain circular carbon quality line pipe from the People's Republic of China (“PRC”) until no later than September 29, 2004. This postponement is made pursuant to section 733(c)(1)(B) of the Tariff Act of 1930, as amended (“the Act”).

EFFECTIVE DATE: August 12, 2004.

FOR FURTHER INFORMATION CONTACT: Steve Williams or Jim Nunno, at (202) 482-4619 or (202) 482-0783, respectively, Import Administration, International Trade Administration, U.S. Department of Commerce, 14th Street and Constitution Avenue, NW., Washington, DC 20230.

SUPPLEMENTARY INFORMATION:

Background

On March 23, 2004, the Department initiated antidumping duty investigations of imports of certain circular welded carbon quality line pipe (“line pipe”) from Mexico, the Republic of Korea (“Korea”), and the PRC. See Notice of Initiation of Antidumping Duty Investigations: Certain Circular Welded Carbon Quality Line Pipe from Mexico, the Republic of Korea, and the People's Republic of China, 69 FR 16521 (March 30, 2004) (“Initiation Notice”). Section 733(b) of the Act requires the Department to make a preliminary determination no later than 140 days after the date of initiation. On July 21, 2004, the Department extended the preliminary determinations of the line pipe investigations for Mexico and Korea in accordance with section 733(c)(1)(B) of the Act. See Postponement of Preliminary Determinations of Antidumping Duty Investigations: Certain Circular Welded Carbon Quality Line Pipe from Mexico and the Republic of Korea 69 FR 44641 (July 27, 2004). The preliminary determinations in the investigation of line pipe with respect to Mexico and Korea are now due not later than September 29, 2004.

On August 5, 2004, the Department received a request from American Steel Pipe Division of ACIPC, IPSCO Tubulars Inc., Lone Star Steel Company, Maverick Tube Corporation, Northwest Pipe Company, and Stupp Corporation, petitioners in these investigations, a request for an extension of the preliminary determination with respect to line pipe from the PRC. See Letter from Petitioners requesting an extension of the preliminary determination on certain circular welded carbon quality line pipe from China, dated August 5, 2004 (“Extension Request”).

Postponement of Preliminary Determinations

19 CFR 351.205(e) states that a petitioner can request a postponement of the preliminary determination 25 days or more before the scheduled date of the preliminary determination and must state the reasons for the request. Notification of such a postponement will be given by the Department no later than 20 days before the scheduled date of the preliminary determination. See 19 CFR 351.205(f).

Although the petitioners' request was filed beyond the deadline of 25 days and this notice to the parties is delayed, pursuant to 19 CFR 351.302(b), the Department “may, for good cause, extend any time limit established by this Part.” In this instance, the Department finds good cause to extend the time limit for notification of the extension of the preliminary determination for the reasons stated below.

To begin, the period of investigation (“POI”) in the line pipe investigation of the PRC, a non-market economy (“NME”), is July 1, 2003, through December 31, 2003. In NME cases, the Department values data using prices from a comparable market economy that is a significant producer of comparable merchandise. However, the availability of such prices that are properly contemporaneous with the POI is limited at this time. The Department needs additional time in order for the Department to have contemporaneous information from a comparable market economy on the record to corroborate properly the secondary information to be used as the basis of the margin for the PRC entity.

In addition, as stated in the Extension Request, the U.S. International Trade Commission (“ITC”) reached its affirmative preliminary injury determination for Mexico, Korea, and the PRC on May 3, 2004. Were the Department to proceed with its preliminary determination with respect to the PRC, it would be necessary that the ITC issue a separate final determination for the PRC, much earlier than with respect to Mexico and Korea. The petitioners in this investigation have requested that the Department align these cases at its preliminary determination to eliminate the necessity for separate ITC determinations. In the interest of administrative efficiency, the Department concludes that the Mexico, Korea, and PRC cases should remain on a consistent timeline.

For the reasons identified above, we are postponing the preliminary determinations under Section 733(c)(1)(A) of the Act by 50 days, to no later than September 29, 2004. The deadline for the final determinations will continue to be 75 days after the date of the preliminary determinations. This notice is issued and published pursuant to sections 733(f) and 777(i) of the Act.

Dated: August 6, 2004.
Joseph A. Spetrini,
Acting Assistant Secretary for Import Administration.

[FR Doc. 04-18455 Filed 8-11-04; 8:45 am]

BILLING CODE 3510-DS-P